DEPARTMENT OF HEALTH AND HUMAN SERVICES

Centers for Disease Control and Prevention

Public Health Service Act; Delegation of Authority

Notice is hereby given that I have delegated to the Director, Centers for Disease Control and Prevention (CDC), the authority vested in the Secretary of Health and Human Services under Section 319F-2 of Title III of the Public Health Service Act, as amended, to enter into agreements with recipients of the Stockpile material will be deployed. The authority to deploy the Stockpile referred to herein is limited to the CHEMPACK Program.

This authority cannot be redelegated. Further, CDC must notify the Office of Public Health Emergency Preparedness before entering into an agreement.

This delegation became effective upon date of signature. In addition, I have affirmed and ratified any actions taken by the Director, CDC, or his/her subordinates which involved the exercise of the authorities delegated therein prior to the effective date of the delegation.

Dated: October 27, 2004.
Tommy G. Thompson,
Secretary.

[FR Doc. 04-25002 Filed 11-9-04; 8:45 am]

BILLING CODE 4160-18-M